DEPARTMENT OF ENERGY

Federal Energy Regulatory Commission

Sunshine Act Meeting; Notice

May 10, 2007.

The following notice of meeting is published pursuant to section 3(a) of the government in the Sunshine Act (Pub. L. 94-409), 5 U.S.C. 552b:

Agency Holding Meeting: Federal Energy Regulatory Commission.

Date and Time: Thursday, May 17, 2007, 10 a.m.

Place: Room 2C, 888 First Street, NE., Washington, DC 20426.

Status: Opens.

Matters To Be Considered: Agenda.

*Note: Items listed on the agenda may be deleted without further notice

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

Item No. | Docket No. | Company
Administrative
A-1 | AD02-1-000 | Agency Administrative Matters.
A-2 | AD02-7-000 | Customer Matters, Reliability, Security and Market Operations.
A-3 | AD06-3-000 | Energy Market Update.
Electric
E-1 | ER07-478-000 | Midwest Independent Transmission System Operator, Inc.
E-2 | OMITTED
E-3 | OMITTED
E-4 | EL06-94-001 | Borough of Chambersburg, PA and Town of Front Royal, VA. v. PJM Interconnection, L.L.C.
E-5 | ER06-1218-000 ER06-1218-001 ER06-1218-002 ER06-1218-003 ER06-1218-004 | PJM Interconnection, L.L.C.
E-6 | OMITTED
E-7 | OMITTED
E-8 | RR07-9-000 RR07-10-000 | North American Electric Reliability Corporation.
E-9 | ER07-205-000 ER07-205-001 | Ameren Energy Marketing, Central Illinois Public Service Company, Central Illinois Light Company, Illinois Power Company and Union Electric Company.
E-10 | ER07-648-000 | California Independent System Operator Corporation
E-11 | ER07-655-000 | ISO New England Inc.
E-12 | QM07-2-000 | Duke Energy Shared Services, Inc., Duke Energy Ohio, Inc., Duke Energy Indiana, Inc., and Duke Energy Kentucky, Inc.
E-13 | EC07-53-000 | Boston Generating, LLC, Mystic I, LLC, Mystic Development, LLC, Fore River Development, LLC and EBG Holdings, LLC.
E-14 | ER01-3001-016 ER03-647-009 | New York Independent System Operator, Inc.
E-15 | NJ05-1-001 | Western Area Power Administration
E-16 | ER07-231-001 | PJM Interconnection, L.L.C., New York System Operator, Inc., and ISO New England Inc.
E-17 | EL03-37-005 | Town of Norwood, Massachusetts v. National Grid USA, New England Electric System, Massachusetts Electric Company, and Narragansett Electric Light Company.
E-18 | RM07-11-000 | Applicability of Federal Power Act Section 215 to Qualifying Small Power Production and Cogeneration Facilities.
E-19 | OMITTED
E-20 | OMITTED
E-21 | OMITTED
E-22 | OMITTED
E-23 | ER03-563-030 ER03-563-060 | Devon Power LLC.
E-24 | EL06-83-000 | Southwest Power Pool, Inc.
E-25 | EL00-95-000 | San Diego Gas & Electric Company v. Sellers of Energy and Ancillary Services.
| EL00-98-000 | Investigation of Practices of the California Independent System Operator and the California Power Exchange.
| EL01-10-000 | Puget Sound Energy, Inc. v. Sellers of Energy and/or Capacity.
| EL03-165-000 | Portland General Electric Company.
| IN03-10-000 | Investigation of Anomalous Bidding Behavior and Practices in Western Markets.
| PA02-2-000 | Fact-Finding Investigation Into Possible Manipulation of Electric and Natural Gas Prices.
E-26 | ER07-284-000 ER07-284-001 ER07-284-002 | San Diego Gas & Electric Company
E-27 | ER05-560-001 ER05-560-002 | Midwest Independent Transmission System Operator, Inc.
E-28 | EL00-95-000 | San Diego Gas & Electric Company v. Sellers of Energy and Ancillary Services.
| EL00-98-000 | Investigation of Practices of the California Independent System Operator and the California Power Exchange.
| EL02-113-000 | El Paso Electric Company, Enron Power Marketing, Inc., and Enron Capital and Trade Resources Corporation.
| EL02-114-007 | Portland General Electric Company.
| EL02-115-008 | Enron Power Marketing, Inc.
| EL03-154-000 EL03-180-000 | Enron Power Marketing, Inc. and Enron Energy Services, Inc.
| IN03-10-000 | Investigation of Anomalous Bidding Behavior and Practices in Western Markets.
| PA02-2-000 | Fact-Finding Investigation Into Possible Manipulation of Electric and Natural Gas Prices.
E-29 | EL04-123-002 EL05-105-000 EL05-105-001 ER91-569-026 | Entergy Services Inc.
E-30 | OMITTED
E-31 | EL06-88-001 | Dominion Nuclear Connecticut, Inc. v. Connecticut Light and Power Company.
E-32 | ER07-116-000 ER07-116-001 | ISO New England Inc.
E-33 | ER06-1552-001 | Midwest Independent Transmission System Operator, Inc.
E-34 | EL07-15-000 | Ontelaunee Power Operating Company, LLC v. Metropolitan Edison Company.
E-35 | EL06-69-000 | ALLETE, Inc. (d/b/a Minnesota Power) v. Midwest Independent Transmission System Operator, Inc.
E-36 | ER06-1552-002 | Midwest Independent Transmission System Operator, Inc.
E-37 | ER03-765-002 ER03-765-003 | Calpine Oneta Power, L.P.
E-38 | OMITTED
E-39 | OMITTED
E-40 | EL04-99-000 | Mississippi Delta Energy Agency and Clarksdale Public Utilities Commission v. Entergy Services, Inc. and Entergy Operating Companies.
E-41 | EL07-20-000 | Leadore Wind Farm v. PacifiCorp.
Gas
G-1 | PR07-5-000 | Cranberry Pipeline Corporation.
G-2 | OMITTED
Hydro
H-1 | P-1893-042 | Public Service Company of New Hampshire.
H-2 | P-1494-310 | Grand River Dam Authority.
H-3 | P-9042-069 | Gallia Hydro Partners.
H-4 | EL06-91-001 | Fourth Branch Associates (Mechanicville) v. Hudson River-Black River Regulating District.
| P-12252-024 | Hudson River-Black River Regulating District.
H-5 | P-12574-001 | Santiam Water Control District.
Certificates
C-1 | CP07-44-000 | Southeast Supply Header, LLC and Southern Natural Gas Company.
| CP07-45-000 CP07-46-000 CP07-47-000 | Southeast Supply Header, LLC.
C-2 | CP06-85-002 CP07-41-000 | CenterPoint Energy Gas Transmission Company.
C-3 | CP07-70-000 | Southern Natural Gas Company.
C-4 | RM06-12-001 | Regulations for Filing Applications for Permits to Site Interstate Electric Transmission Facilities.
C-5 | CP98-150-009 | Millennium Pipeline Company, L.L.C.
| CP02-31-003 | Iroquois Gas Transmission System, L.P.
| CP06-5-004 CP06-6-003 CP06-7-003 | Empire State Pipeline and Empire Pipeline, Inc.
| CP06-76-001 | Algonquin Gas Transmission, LLC.

Kimberly D. Bose,
Secretary.

A free Web cast of this event is available through http:www.ferc.gov. Anyone with Internet access who desires to view this event can do so by navigating to www.ferc.gov Calendar of Events and locating this event in the Calendar. The event will contain a link to its Web cast. The Capitol Connection provides technical support for the free Web casts. It also offers access to this event via television in the DC area and via phone bridge for a fee. If you have any questions, visit http://www.CapitolConnection.org or contact Danelle Perkowski or David Reininger at 703-993-3100.

Immediately following the conclusion of the Commission Meeting, a press briefing will be held in Commission Meeting Room. Members of the public may view this briefing in the designated overflow room. This statement is intended to notify the public that the press briefings that follow Commission meetings may now be viewed remotely at Commission headquarters, but will not be telecast through the Capitol Connection service.

[FR Doc. E7-9458 Filed 5-15-07; 8:45 am]

BILLING CODE 6717-01-P